DEPARTMENT OF TRANSPORTATION

Federal Railroad Administration

[Docket No. FRA 2001-9972; Formerly FRA Docket No. 87-2; Notice No. 15]

RIN 2130-AB20

Automatic Train Control and Advanced Civil Speed Enforcement System; Northeast Corridor Railroads

AGENCY: Federal Railroad Administration (FRA), Department of Transportation (DOT).

ACTION: Amendment to Order of Particular Applicability requiring Advanced Civil Speed Enforcement System (ACSES) between New Haven, Connecticut and Boston, Massachusetts—New CSX Transportation (CSXT) temporary operating protocols allowing nighttime operations.

SUMMARY: In 1998, FRA issued an Order of Particular Applicability requiring all trains operating on the Northeast Corridor (NEC) between New Haven, Connecticut and Boston, Massachusetts (NEC—North End) to be equipped to respond to the new Advanced Civil Speed Enforcement System (ACSES). On June 26, 2002, CSXT wrote to request additional relief. After reviewing this request, and discussing it with CSXT personnel, FRA has decided to amend the Order to allow CSXT to run nighttime operations under temporary operating protocols until further notice.

DATES: The amendment to the Order is effective July 22, 2002.

FOR FURTHER INFORMATION CONTACT: W.E. Goodman, Staff Director, Signal and Train Control Division, Office of Safety, Mail Stop 25, FRA, 1120 Vermont Avenue, NW., Washington, DC 20590 ((202) 493-6325); Paul Weber, Railroad Safety Specialist, Signal and Train Control Division, Office of Safety, Mail Stop 25, FRA, 1120 Vermont Avenue, NW., Washington, DC 20590 ((202) 493-6258); or Patricia V. Sun, Office of Chief Counsel, Mail Stop 10, 1120 Vermont Avenue, NW., Washington, DC 20590 ((202) 493-6038).

For instructions on how to use this system, visit the Docket Management System Web site (www.dms.dot.gov) and click on the “Help” menu. This docket is also available for inspection or copying at room PL-401 on the plaza level of the Nassif Building at the U.S. Department of Transportation, 400 7th Street, SW., Washington, DC 20590-0001, during regular business hours.

SUPPLEMENTARY INFORMATION: The Order of Particular Applicability (Order), as published on July 22, 1998, set performance standards for cab signal/automatic train control and ACSES systems, increased certain maximum authorized train speeds, and contained safety requirements supporting improved rail service on the NEC. 63 FR 39343. Among other requirements, the Order required all trains operating on track controlled by the National Railroad Passenger Corporation (Amtrak) on the NEC—North End to be controlled by locomotives equipped to respond to ACSES by October 1, 1999. In seven subsequent notices, FRA amended the Order to reset the implementation schedule, make technical changes, and allow the use of temporary operating protocols. 64 FR 54410, October 6, 1999; 65 FR 62795, October 19, 2000; 66 FR 1718, January 9, 2001; 66 FR 34512, June 28, 2001; 66 FR 57771, November 16, 2001; 67 FR 6753, February 12, 2002, and 67 FR 14769, March 27, 2002.

On June 28, 2001, in Notice No. 11, FRA granted CSXT a relief period from the implementation schedule specified in the Order to allow CSXT additional time to complete its field testing of new Amtrak operational software. FRA subsequently extended the relief period several times as Amtrak continued to make adjustments. The temporary operating protocols specified in paragraph 12 of this Order are no longer in effect, since the last of these extensions expired on July 1, 2002. For this reason, the temporary operating protocols specified in this amendment will be added to this Order in new paragraph 13.

The modifications contained in this amendment to the Order will run until development and testing of the operational software is complete and FRA has issued a subsequent notice. FRA is making this amendment effective upon publication instead of 30 days after the publication date in order to realize the significant safety and transportation benefits afforded by the ACSES system at the earliest possible time. All affected parties have been notified.

FRA is not reopening the comment period since the amendment to this Order is necessary to avoid disruption of rail service. Under these circumstances, delaying the effective date of the amendment to allow for notice and comment would be impracticable, unnecessary, and contrary to the public interest.

As mentioned above, the relief granted in the last amendment has expired. To prevent such recurrences, and to ensure that FRA has adequate time to consider all requests, any future requests for relief must be submitted no later than 10 working days before the requestor wishes the desired relief to take effect. FRA expects the parties to this Order to resolve any remaining issues quickly, since this is the seventh time that FRA has amended the Order to provide temporary relief from its requirements.

New CSXT Temporary Operating Protocols

The CSXT letter identified numerous “problem areas” in both the wayside and onboard portions of ACSES, with CSXT's recommended solutions. Many of the software and mechanical issues identified by CSXT have either been resolved through agreement with Amtrak or cannot be addressed by revisions to the order. One major issue, however, is CSXT's request to be allowed to continue trains operations with ACSES cut out in the event of a road failure, or a single nuisance penalty brake application. FRA will not allow this request. CSXT is in effect asking for permission to cut out ACSES en route, regardless of whether the system is on board and working as intended. FRA believes that the protection ACSES provides to high speed trains and other trains on the NEC—North End is more important than its occasional impact on freight service. However, FRA is amending the Order to reduce the impact on CSXT operations by excepting nighttime operations as CSXT requested. In this amendment, FRA also addresses CSXT's request to remove the positive stop protections at two interlockings.

(1) Nighttime Operations

In its June 26 letter, CSXT stated that Amtrak had agreed to allow CSXT to operate freight trains on the NEC—North End with ACSES cut out during the low-volume hours of 12:00 a.m-5:00 a.m. There are no high-speed train operations on the NEC—North End during these hours, and other passenger rail operations are very limited. This relief will allow CSXT to operate trains on the NEC—North End with ACSES cut out, without the current requirement that the Amtrak dispatcher be notified at the time of cut out.

FRA approves this request, provided that CSXT and Amtrak submit operating rules for FRA's approval before nighttime operations begin. The operating rules must indicate all the aspects and controls of these operations. This relief will continue until Amtrak has modified its software to eliminate the large number of unexpected penalty applications currently required and FRA has issued a subsequent notice rescinding the relief extended in this notice.

(2) Retention of Positive Stop Requirements

Currently, ACSES enforces positive stop requirements at the interlockings at Attleboro, and Mansfield, Massachusetts. In its June 26 letter, CSXT indicated that Amtrak had agreed to grant CSXT's request to remove the positive stop requirements at both interlockings, to reduce the number of penalty brake applications experienced during switching operations.

Even though Amtrak has agreed to these removals, FRA does not approve CSXT's request to remove the positive stop requirements at the Attleboro and Mansfield interlockings. The Order required Amtrak to put ACSES on high speed main tracks and tracks adjacent to them where speeds exceed 15 mph. This ACSES territory must also have perimeter protection. At the Attleboro interlocking, entry from the New Bedford Secondary is onto Track 4, a 60 mile per hour (mph) track used by cab car forward commuter trains where safety could be adversely affected by the removal of the positive stops at the east and west bound home signals. Track 4 is required both to have ACSES and to be perimeter-protected, which benefits safety on the commuter main and the adjacent high speed line. At the Mansfield interlocking, entry is onto a high-speed (150 mph) track. Here too, FRA believes that safety would be better served by retaining positive stop protection.

Accordingly, for the reasons stated in the preamble, the Final Order of Particular Applicability published at 63 FR 39343, July 22, 1998 (Order) is amended as follows:

1. The authority for the Order continues to read as follows: 49 U.S.C. 20103, 20107, 20501-20505 (1994); and 49 CFR 1.49(f), (g), and (m).

2. Paragraph 13 is added to read as follows:

13. CSX Transportation (CSXT) Temporary Operating Protocols.

Effective upon [July 22, 2002] until further notice:

CSXT may operate trains along the NEC—North End between the hours of 12 a.m. to 5 a.m. with ACSES cut out, without prior notification to the Amtrak dispatcher. This temporary relief is contingent upon FRA approval of Amtrak and CSXT operating rules concerning these operations.

Issued in Washington, DC, on July 15, 2002.
Allan Rutter,
Federal Railroad Administrator.

[FR Doc. 02-18346 Filed 7-19-02; 8:45 am]

BILLING CODE 4910-06-P